TENNESSEE VALLEY AUTHORITY

Sunshine Act Meeting; No. 07-01

Time and Date: 9 a.m. (CST), January 25, 2007. Fogelman Conference Center, University of Memphis, 330 DeLoach Street, Memphis, Tennessee 38152.

Status: Open.

Agenda

Old Business

Approval of minutes of November 30, 2006, Board Meeting.

New Business

1. President's Report.

2. Chairman's Report.

A. Board Committee membership appointments.

3. Report of the Finance, Strategy, and Rates Committee.

A. Two-Part Real Time Pricing Arrangements for a directly served customer.

4. Report of the Operations, Environment, and Safety Committee.

A. TVA Board Practice on delegation of authority on capital expenditures.

B. TVA Board Practice on approval of fuels, power trading, and related contracts.

5. Report of the Audit and Ethics Committee.

6. Report of the Corporate Governance Committee.

A. Appointment of assistant secretaries.

7. Information Item.

A. Board approved framework for settlement of Johns Manville class action lawsuit, which is subject to court approval.

For more information: Please call TVA Media Relations at (865) 632-6000, Knoxville, Tennessee. Information is also available at TVA's Washington Office (202) 898-2999. People who plan to attend the meeting and have special needs should call (865) 632-6000. Anyone who wishes to comment on any of the agenda in writing may send their comments to: TVA Board of Directors, Board Agenda Comments, 400 West Summit Hill Drive, Knoxville, Tennessee 37902.

January 18, 2007.
Maureen H. Dunn,
General Counsel and Secretary.

[FR Doc. 07-286 Filed 1-19-07; 12:11 pm]

BILLING CODE 8120-08-P